DEPARTMENT OF HEALTH AND HUMAN SERVICES

Administration for Children and Families

Extension of a Currently Approved Information Collection; Comment Request

Proposed Projects

Title: Cross-Site Evaluation of Children's Bureau's Child Welfare Technical Assistance Implementation Centers and National Child Welfare Resource Centers.

OMB No.: 0970-0377.

Background and Brief Description: The Cross-Site Evaluation of the Child Welfare Implementation Centers (ICs) and National Resource Centers (NRCs) is sponsored by the Children's Bureau, Administration for Children and Families, of the U.S. Department of Health and Human Services and involves the conduct of a multi-year cross-site evaluation that examines the service provision of the ICs' and NRCs' and the relation of their training and technical assistance activities to organizational and systems change in State and Tribal child welfare systems. Additionally, the evaluation examines the degree to which networking, collaboration, information sharing, adherence to common principles, and common messaging occurs across members of the Children's Bureau Training and Technical Assistance (T/TA) Network, which is designed to improve child welfare systems and to support States and Tribes in achieving sustainable, systemic change that results in greater safety, permanency, and well-being for children, youth, and families. The Children's Bureau desires to assess the quality and effectiveness of the technical assistance it supports, and several of these programs and projects are required to be evaluated, including those funded under Section 105 of The Child Abuse Prevention and Treatment Act, as amended [42 U.S.C. 5106]. The Children's Bureau T/TA Network is currently comprised of providers funded entirely or partially by the Children's Bureau through grants, contracts, and interagency agreements.

The cross-site evaluation uses a mixed-method, longitudinal approach. Data collection methods that already have been employed are a longitudinal telephone survey of State and Tribal child welfare directors (or their designees), a web-based survey of State and Tribal T/TA recipients, and aggregation of outputs from a web-based technical assistance tracking system (OneNet) that will continue to be used by the ICs and NRCs. A web-based survey also has been administered to members of the T/TA Network to assess their communication, coordination, and how they function as part of the Network. Data collected through these instruments are being used by the Children's Bureau to evaluate the technical assistance delivered to State, local, Tribal, and other publicly administered or publicly supported child welfare agencies and family and juvenile courts. Extension of the follow-up data collection instruments beyond the June 30, 2013 expiration date is necessary so that the Children's Bureau can assess the extent to which its T/TA providers achieve their key objectives and determine the outcomes of the T/TA from the perspective of States and Tribes, incorporating service utilization data from OneNet into these analyses.

Respondents: Respondents to two of the survey instruments will be State and Tribal governments. Respondents to the third survey will be private institutions, including universities, not-for-profit organizations, and private companies. Private institutions, including universities and not-for-profit organizations will be respondents to the forms in the OneNet tracking system.

Annual Burden Estimates
Instrument | Number of respondents | Number of responses per respondent | Average burden hours per response | Total annual burden hours
Agency Results Survey | 74 | 1 | 1.0 | 74.00
T/TA Activity Survey | 160 | 3 | 0.25 | 120.00
Web-Based Network Survey | 15 | 1 | 0.25 | 3.75
OneNet Form: General T/TA Event | 17 | 11.8 | 0.25 | 50.00
OneNet Form: T/TA Request | 13 | 12.31 | 0.40 | 64.00
OneNet Form: T/TA Assessment and Work Plan | 13 | 6.2 | 0.28 | 22.568
OneNet Form: T/TA Activity | 12 | 160 | 0.30 | 576.00
OneNet Form: Implementation Project Application | 5 | 1.7 | 0.40 | 3.4
OneNet Form: Implementation Project Assessment and Work Plan | 5 | 4.6 | 0.28 | 6.44
OneNet Form: Implementation Project T/TA Activity | 5 | 600 | 0.30 | 900
OneNet Form: Implementation Project Monthly Report | 5 | 36 | 0.17 | 30.60
Estimated Total Annual Burden Hours: |  |  |  | 1850.76

Overall, the estimated burden hours have decreased by 284 hours from the original submission (the estimated total annual burden hours were 2135.12). This difference is explained in part due to plans for fewer Network member organizations to complete subsequent surveys. Additional data fields have been added to four of the OneNet forms at the request of respondents, and a few questions on survey instruments have been removed or revised. These minor changes did not increase the total annual burden hours.

Additional Information: Copies of the proposed collection may be obtained by writing to the Administration for Children and Families, Office of Administration, Office of Information Services, 370 L'Enfant Promenade SW., Washington, DC 20447, Attn: ACF Reports Clearance Officer. All requests should be identified by the title of the information collection. Email address: infocollection@acf.hhs.gov.

OMB Comment: OMB is required to make a decision concerning the collection information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Email: OIRA_SUBMISSION@OMB.EOP.GOV, Attn: Desk Officer for the Administration for Children and Families.

Robert Sargis,
Reports Clearance Officer.

[FR Doc. 2013-02405 Filed 2-4-13; 8:45 am]

BILLING CODE P